ENVIRONMENTAL PROTECTION AGENCY

[EPA-HQ-OAR-2022-0044; FRL-10375-01-OMS]

Information Collection Request Submitted to OMB for Review and Approval; Comment Request; NESHAP for Chemical Preparations Industry (Renewal)

AGENCY: Environmental Protection Agency (EPA).

ACTION: Notice.

SUMMARY: The Environmental Protection Agency (EPA) has submitted an information collection request (ICR), NESHAP for Chemical Preparations Industry (EPA ICR Number 2356.06, OMB Control Number 2060-0636) to the Office of Management and Budget (OMB) for review and approval in accordance with the Paperwork Reduction Act. This is a proposed extension of the ICR, which is currently approved through December 31. 2020. Public comments were previously requested, via the Federal Register, on April 8, 2022 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before November 28, 2022.

ADDRESSES: Submit your comments, referencing Docket ID Number EPA-HQ-OAR-2022-0044, to EPA online using https://www.regulations.gov/ (our preferred method), or by email, to docket@epa.gov, or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division (D243-05), Office of Air Quality Planning and Standards, U.S. Environmental Protection Agency, Research Triangle Park, North Carolina 27711; telephone number: (919) 541-0833; email address: ali.muntasir@epa.gov.

SUPPLEMENTARY INFORMATION: Supporting documents, which explain in detail the information that the EPA will be collecting, are available in the public docket for this ICR. The docket can be viewed online at https://www.regulations.gov, or in person at the EPA Docket Center, WJC West Building, Room 3334, 1301 Constitution Ave. NW, Washington, DC. The telephone number for the Docket Center is 202-566-1744. For additional information about EPA's public docket, visit: http://www.epa.gov/dockets.

Abstract: The National Emission Standards for Hazardous Air Pollutants (NESHAP) for Chemical Preparations Industry (40 CFR part 63, subpart BBBBBBB) were proposed on August 5, 2009, and promulgated on December 30, 2009. These regulations apply to both existing and new chemical preparation facilities that conduct the mixing, milling, blending or extruding of industrial chemicals and that are area sources of hazardous air pollutants (HAPs). Area sources are classified as sources that emit less than 10 tons per year of a single HAP and less than 25 tons per year of any combination of HAPs. New facilities include those that commenced construction, modification or reconstruction after the date of proposal. This information is being collected to assure compliance with 40 CFR part 63, subpart BBBBBBB.

In general, all NESHAP standards require initial notifications, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to NESHAP.

Form Numbers: None.

Respondents/affected entities: Chemical preparation facilities that conduct the mixing, milling, blending or extruding of industrial chemicals.

Respondent's obligation to respond: Mandatory (40 CFR part 63, subpart BBBBBBB).

Estimated number of respondents: 3 (total).

Frequency of response: Initially, annually, and semiannually.

Total estimated burden: 176 hours (per year). Burden is defined at 5 CFR 1320.3(b).

Total estimated cost: $21,100 (per year), which includes $45 in annualized capital/startup and/or operation & maintenance costs.

Changes in the Estimates: The adjustment decrease in burden from the most-recently approved ICR is due to a decrease in the number of sources. This ICR reflects a substantial decrease in the number of respondents in the currently approved ICR, based on data collected from the chemical preparations industry as part of a 2020 section 114 information collection request. There were 26 affected sources estimated in the most-recently approved ICR, and this ICR renewal estimates there are three affected sources. The number of sources has decreased by 88 percent, which reflects an overall decline in the industry. There are no capital/startup costs in this ICR. The O&M costs decreased due to the decreased number of affected sources.

Courtney Kerwin,
Director, Regulatory Support Division.

[FR Doc. 2022-23349 Filed 10-26-22; 8:45 am]

BILLING CODE 6560-50-P